DEPARTMENT OF ENERGY

Federal Energy Regulatory Commission

Combined Notice of Filings #1

Take notice that the Commission received the following electric rate filings:

Docket Numbers: ER11-4380-002; ER10-2431-003; ER11-2363-002; ER10-2434-003; ER10-2467-003; ER11-3731-003; ER10-2488-003; ER12-1931-001; ER10-2504-002; ER12-610-002; ER10-2436-003; ER11-4381-002.

Applicants: Fenton Power Partners I, LLC, Wapsipinicon Wind Project, LLC, Shiloh Wind Project 2, LLC, Hoosier Wind Project, LLC, Oasis Power Partners, LLC, Bellevue Solar, LLC, Yamhill Solar, LLC, Chanarambie Power Partners, LLC, LWP Lessee, LLC, Chestnut Flats Wind, LLC, Shiloh III Lessee, LLC, Pacific Wind Lessee, LLC.

Description: Notice of Change in Status of enXco Entities. (Attachment B and C are informational only).

Filed Date: 7/5/12.

Accession Number: 20120705-5125.

Comments Due: 5 p.m. ET 7/26/12.

Docket Numbers: ER12-1742-002.

Applicants: International Transmission Company.

Description: ITC Transmission RS 12 to be effective 7/10/2012.

Filed Date: 7/6/12.

Accession Number: 20120706-5037.

Comments Due: 5 p.m. ET 7/27/12.

Docket Numbers: ER12-1931-001.

Applicants: Pacific Wind Lessee, LLC.

Description: Pacific Wind Lessee Notice of Change in Status and Compliance Filing—Clone to be effective 6/25/2012.

Filed Date: 7/5/12.

Accession Number: 20120705-5091.

Comments Due: 5 p.m. ET 7/26/12.

Docket Numbers: ER12-2009-001.

Applicants: PJM Interconnection, LLC.

Description: PJM Interconnection, LLC submits tariff filing per 35.17(b): Errata to correct metadata in ER12-2009 re Cancellation of SA No. 2951 to be effective 5/11/2012.

Filed Date: 7/6/12.

Accession Number: 20120706-5055.

Comments Due: 5 p.m. ET 7/27/12.

Docket Numbers: ER12-2205-000.

Applicants: Meadow Creek Project Company LLC.

Description: Application for MBR Authority to be effective 9/5/2012.

Filed Date: 7/5/12.

Accession Number: 20120705-5098.

Comments Due: 5 p.m. ET 7/26/12.

Docket Numbers: ER12-2206-000.

Applicants: Southern California Edison Company.

Description: Unexecuted SGIA with Western Antelope Dry Ranch LLC to be effective 7/6/2012.

Filed Date: 7/5/12.

Accession Number: 20120705-5100.

Comments Due: 5 p.m. ET 7/26/12.

Docket Numbers: ER12-2207-000.

Applicants: California Independent System Operator Corporation.

Description: 2012-07-05 Western Antelope Dry Ranch SGIA to be effective 7/6/2012.

Filed Date: 7/5/12.

Accession Number: 20120705-5110.

Comments Due: 5 p.m. ET 7/26/12.

Docket Numbers: ER12-2208-000.

Applicants: Southern California Edison Company.

Description: Unexecuted SGIA with Western Antelope Blue Sky Ranch A LLC to be effective 7/6/2012.

Filed Date: 7/5/12.

Accession Number: 20120705-5113.

Comments Due: 5 p.m. ET 7/26/12.

Docket Numbers: ER12-2209-000.

Applicants: California Independent System Operator Corporation.

Description: 2012-07-05 Western Antelope Blue Sky SGIA to be effective 7/6/2012.

Filed Date: 7/5/12.

Accession Number: 20120705-5115.

Comments Due: 5 p.m. ET 7/26/12.

Docket Numbers: ER12-2210-000.

Applicants: Westar Energy, Inc.

Description: Notice of Termination of Generation Interconnection Agreement of Westar Energy, Inc.

Filed Date: 7/5/12.

Accession Number: 20120705-5121.

Comments Due: 5 p.m. ET 7/26/12.

Docket Numbers: ER12-2211-000.

Applicants: Southern California Edison Company.

Description: Southern California Edison Company submits Notice of Cancellation of 1995 Edison-Banning Firm Transmission Service Agreement.

Filed Date: 7/6/12.

Accession Number: 20120706-5032.

Comments Due: 5 p.m. ET 7/27/12.

Docket Numbers: ER12-2212-000

Applicants: Demand Response Partners, Inc.

Description: Request for Limited Tariff Waiver of Demand Response Partners, Inc.

Filed Date: 7/6/12.

Accession Number: 20120706-5034.

Comments Due: 5 p.m. ET 7/27/12.

Docket Numbers: ER12-2213-000.

Applicants: ISO New England Inc.

Description: ISO New England Inc. Vermont Public Power Supply Authority Resource Termination.

Filed Date: 7/6/12.

Accession Number: 20120706-5038.

Comments Due: 5 p.m. ET 7/27/12.

Docket Numbers: ER12-2214-000.

Applicants: ISO New England Inc., Green Mountain Power Corporation.

Description: ISO New England Inc. submits tariff filing per 35.13(a)(2)(iii: Kingdom Wind LGIA/GMP-12-01 to be effective 7/7/2012.

Filed Date: 7/6/12.

Accession Number: 20120706-5056.

Comments Due: 5 p.m. ET 7/27/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 6, 2012.
Nathaniel J. Davis, Sr.,
Deputy Secretary.

[FR Doc. 2012-17150 Filed 7-12-12; 8:45 am]

BILLING CODE 6717-01-P